DEPARTMENT OF COMMERCE

International Trade Administration

[A-427-801, A-428-801, A-475-801]

Ball Bearings and Parts Thereof From France, Germany, and Italy: Final Results of Antidumping Duty Administrative Reviews; 2010-2011

Correction

In notice document 2012-29770, appearing on pages 73415-73417 in the issue of Monday, December 10, 2012, make the following correction:

On page 73416, in the second and third columns, the table is corrected to read as set forth below.

Company | Margin (percent)
France:
Audi AG | 0.00
Bosch Rexroth SAS | 0.00
Caterpillar Group Services S.A | 0.00
Caterpillar Materials Routiers S.A.S | 0.00
Caterpillar S.A.R.L | 0.00
Perkins Engines Company Limited | 0.00
SNECMA | 0.00
NTN-SNR | 0.00
Volkswagen AG | 0.00
Volkswagen Zubehor GmbH | 0.00
Germany:
Bayerische Motoren Werke AG | 0.00
Bosch Rexroth AG | 0.00
BSH Bosch und Siemens Hausgerate GmbH | 0.00
Caterpillar S.A.R.L. | 0.00
myonic GmbH | 0.00
Robert Bosch GmbH | 0.00
Robert Bosch GmbH Power Tools and Hagglunds Drives | 0.00
Italy:
Audi AG | 0.00
Bosch Rexroth S.p.A | 0.00
Caterpillar Overseas S.A.R.L | 0.00
Caterpillar of Australia Pty. Ltd | 0.00
Caterpillar Group Services S.A | 0.00
Caterpillar Mexico, S.A. de C.V | 0.00
Caterpillar Americas C.V | 0.00
Hagglunds Drives S.r.l | 0.00
Perkins Engines Company Limited | 0.00
Schaeffler Italia S.r.l. and WPB Water Pump Bearing GmbH & Co. KG, Schaeffler Italia SpA and The Schaeffler Group | 0.00
SKF Industries S.p.A., Somecat S.p.A., and SKF RIV-SKF Officine di Villar Perosa S.p.A | 0.00
SNECMA | 0.00
Volkswagen AG | 0.00
Volkswagen Zubehor GmbH | 0.00

[FR Doc. C1-2012-29770 Filed 12-21-12; 8:45 am]

BILLING CODE 1505-01-D